DEPARTMENT OF ENERGY

Notice of Availability of Solicitation

AGENCY: Idaho Operations Office, Department of Energy.

ACTION: Notice of Availability of Solicitation—Agriculture Industry of the Future.

SUMMARY: The U.S. Department of Energy (DOE), Idaho Operations Office (ID), on behalf of the Office of Industrial Technologies, is seeking applications for innovative cost-shared research, development and demonstration of technologies that will enhance economic competitiveness, reduce energy consumption and reduce environmental impacts in the emerging renewable bioproducts industry. The research must address high priority goals in either the processing or utilization barrier areas identified in the “Technology Roadmap for Plant/Crop-Based Renewable Resources 2020.”

DATES: The deadline for receipt of applications is 3:00 p.m. MDT June 6, 2000.

ADDRESSES: Applications should be submitted to: Procurement Services Division, U.S. Department of Energy, Idaho Operations Office, Attention: Elaine Richardson [DE-PS07-00ID13959], 850 Energy Drive, MS 1221, Idaho Falls, Idaho 83401-1563.

FOR FURTHER INFORMATION CONTACT: Elaine Richardson, Contract Specialist, at richarem@id.doe.gov.

SUPPLEMENTARY INFORMATION: The statutory authority for this program is the Federal Non-Nuclear Energy Research & Development Act of 1974 (Pub. L. 93-577). DOE anticipates making approximately 3 to 6 awards with total estimated DOE funding of $400,000 to $750,000 per award per year, each with a duration of three years or less. Multi-partner collaborations including National Laboratories are encouraged. Single organization awards will not be considered. Industrial partners must be included, either as primary applicants or as cost sharing partners. This solicitation will require a fifty per cent (50%) minimum non-federal cost-share. National Laboratories will not be eligible for an award under this solicitation. However, an application that includes performance of a portion of the work by a National Laboratory may be considered for award provided the applicant clearly identifies the unique capabilities, facilities and/or expertise the Laboratory offers the primary applicant. NOTE: The DOE Office of Industrial Technologies does not fund product development R&D. Topics in any of the above mentioned documents will be funded only if the proposed research and development addresses energy efficiencies in this new industry area, not in the end-use application. It is anticipated that the following criteria will be considered in the evaluation: (1) Research Concept and Plan; (2) Economic and Environmental Benefits; (3) Energy Benefits; (4) Multi-Partner Involvement; (5) Applicant/Team Capabilities and Facilities. The issuance date of Solicitation No. DE-PS07-00ID13959 will be April 24, 2000. The solicitation will be available in full text via the Internet at the following address: http://www.id.doe.gov/doeid/psd/proc-div.html. Technical and non-technical questions should be submitted in writing to Elaine Richardson by e-mail richarem@id.doe.gov, or facsimile at 208-526-5548 no later than May 8, 2000.

R. Jeffrey Hoyles,
Director, Procurement Services Division.

[FR Doc. 00-10366 Filed 4-26-00; 8:45 am]

BILLING CODE 6450-01-P